FEDERAL COMMUNICATIONS COMMISSION

Radio Broadcasting Services; AM or FM Proposals To Change the Community of License

AGENCY: Federal Communications Commission.

ACTION: Notice.

SUMMARY: The following applicants filed AM or FM proposals to change the community of license: BBC BROADCASTING, INC, Station KPRI, Facility ID 21416, BP-20090226AAF, From FERNDALE, WA, To POINT ROBERTS, WA; CUMULUS LICENSING LLC, Station WYOK, Facility ID 8680, BPH-20120131AJS, From ATMORE, AL, To SARALAND, FL; GRACE BAPTIST CHURCH OF ORANGE BURG, Station NEW, Facility ID 171479, BMPED-20120131ALI, From RIDGEVILLE, SC, To ST. GEORGE, SC; RADIO LICENSE HOLDING II, LLC, Station WYAY, Facility ID 48727, BPH-20120131AHR, From GAINESVILLE, GA, To SANDING SPRINGS, GA.

DATES: Comments may be filed through April 16, 2012.

ADDRESSES: Federal Communications Commission, 445 12th Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-3561 Filed 2-14-12; 8:45 am]

BILLING CODE 6712-01-P